DEPARTMENT OF THE INTERIOR

National Park Service

[NPS-WASO-CONC-18186]; [PPWOBSADC0, PPMVSCS1Y.Y00000]

Notice of Extension of Concession Contracts

AGENCY: National Park Service, Interior.

ACTION: Public notice.

SUMMARY: The National Park Service hereby gives public notice that it proposes to extend the following expiring concession contracts for a period of up to one (1) year, or until the effective date of a new contract, whichever occurs sooner.

DATES: Effective June 1, 2015.

FOR FURTHER INFORMATION CONTACT: Brian Borda, Chief, Commercial Services Program, National Park Service, 1201 Eye Street NW., 11th Floor, Washington, DC 20005, Telephone: 202-513-7156.

SUPPLEMENTARY INFORMATION: Pursuant to 36 CFR 51.23, the National Park Service has determined the proposed short-term extensions are necessary to avoid interruption of visitor services and has taken all reasonable and appropriate steps to consider alternatives to avoid such interruption. The publication of this notice merely reflects the intent of the National Park Service but does not bind the National Park Service to extend any of the contracts listed below.

CONCID | Concessioner | Park unit
ANIA903-05 | Joe Klutsch | Aniakchak National Monument & Preserve.
ANIA904-05 | Jay M. King | Aniakchak National Monument & Preserve.
ANIA906-05 | Cinder River Lodge Alaska, LLC | Aniakchak National Monument & Preserve.
DENA003-15 | Eric Jayne | Denali National Park & Preserve.
DENA005-04 | Rainier Mountaineering, Inc. | Denali National Park & Preserve.
DENA006-04 | Mountain Trip International, Inc. | Denali National Park & Preserve.
DENA008-04 | Alaska Mountaineering School, LLC | Denali National Park & Preserve.
DENA009-04 | Alpine Ascents International, Inc. | Denali National Park & Preserve.
DENA010-04 | American Alpine Institute, Ltd. | Denali National Park & Preserve.
DENA011-04 | National Outdoor Leadership School | Denali National Park & Preserve.
DENA018-15 | Jon M. Nierenberg | Denali National Park & Preserve.
GAAR001-05 | Richard A. Guthrie | Gates of the Artic National Park & Preserve.
GLBA015-06 | Paul Johnson | Glacier Bay National Park & Preserve.
GLBA016-06 | Whale Song Adventures, LLC | Glacier Bay National Park & Preserve.
GLBA018-06 | Alaska Glacier Guides, Inc. | Glacier Bay National Park & Preserve.
GLBA019-06 | Anchor Excursions, Inc. | Glacier Bay National Park & Preserve.
GLBA022-06 | Craig S. Loomis | Glacier Bay National Park & Preserve.
GLBA023-06 | Alaskan Sailing Expeditions, LLC | Glacier Bay National Park & Preserve.
GLBA024-06 | Jimmie L. Rosenbruch | Glacier Bay National Park & Preserve.
GLBA025-06 | James S. Kearns | Glacier Bay National Park & Preserve.
GLBA026-06 | Denny Paul Corbin | Glacier Bay National Park & Preserve.
GLBA027-06 | InterSea Discoveries, LLC | Glacier Bay National Park & Preserve.
GLBA028-06 | Francis & Linda Kadrlik | Glacier Bay National Park & Preserve.
GLBA030-06 | Ronn Patterson | Glacier Bay National Park & Preserve.
GLBA031-06 | Geoff Wilson and Debbie Kay Bennett | Glacier Bay National Park & Preserve.
GLBA032-06 | Sea Wolf Adventures, Inc. | Glacier Bay National Park & Preserve.
GLBA034-06 | InterSea Discoveries, LLC | Glacier Bay National Park & Preserve.
GLBA901-05 | Alsek River Guide Service, Inc. | Glacier Bay National Park & Preserve.
GLBA902-05 | Alsek River Guide Service, Inc. | Glacier Bay National Park & Preserve.
LACL002-05 | Alaska's River Wild Lodge, LLC | Lake Clark National Preserve.
LACL901-05 | Arno Krumm | Lake Clark National Preserve.
NOAT901-06 | Philip E. Driver | Noatak National Preserve.
NOAT904-06 | James P. Jacobson | Noatak National Preserve.
NOAT906-06 | Edmond Mont Mahoney | Noatak National Preserve.
SEKI004-98 | DNC Parks and Resorts at Sequoia, Inc. | Sequoia & Kings Canyon National Parks.

Summary: Under the provisions of current concession contracts and pending the completion of the public solicitation of a prospectus for a new concession contract, the National Park Service authorizes extension of visitor services for the contract listed below until the dates shown under the terms and conditions of the current contract as amended. The extension of operations does not affect any rights with respect to selection for award of a new concession contract.

CONCID | Concessioner | Park unit | Extend until
PAIS002-05 | Worldwinds Windsurfing, Inc. | Padre Island National Seashore | December 31, 2015.

Dated: June 19, 2015.
Lena McDowall,
Chief Financial Officer.

[FR Doc. 2015-17871 Filed 7-20-15; 8:45 am]

BILLING CODE 4310-70-P